DEPARTMENT OF DEFENSE

Office of the Secretary

[Transmittal Nos. 13-58]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-58 with attached transmittal and policy justification.

Dated: December 11, 2013.
Aaron Siegel,
Alternate OSD Federal Register Liaison Officer, Department of Defense.

BILLING CODE 5001-06-P

BILLING CODE 5001-06-C

Transmittal No. 13-58

Notice of Proposed Issuance of Letter of Offer Pursuant to Section 36(b)(1) of the Arms Export Control Act

(i) Prospective Purchaser: The Government of Kuwait

(ii) Total Estimated Value:

Major Defense Equipment* | $ 0 million
Other | $150 million
TOTAL | $150 million
*as defined in Section 47(6) of the Arms Export Control Act.

(iii) Description and Quantity or Quantities of Articles or Services under Consideration for Purchase: Continuation of contractor engineering technical services, contractor maintenance services, Hush House support services, and Liaison Office Support for the Kuwaiti Air Force F/A-18 C/D program, which will include spare and repair parts, publications and technical documentation, U.S. Government and contractor technical support services and other related elements of logistics support.

(iv) Military Department: Navy (GGZ)

(v) Prior Related Cases, if any: Multiple cases date back to 1997; most recent FMS case is GGT-$100M-08Nov11

(vi) Sales Commission, Fee, etc., Paid, Offered, or Agreed to be Paid: None

(vii) Sensitivity of Technology Contained in the Defense Article or Defense Services Proposed to be Sold: None

(viii) Date Report Delivered to Congress: December 4, 2013.

POLICY JUSTIFICATION

Government of Kuwait—Follow-on Contractor Engineering Technical Services for Kuwait Air Force F/A-18 C/D

The Government of Kuwait requests the continuation of contractor engineering technical services, contractor maintenance services, Hush House support services, and Liaison Office Support for the Kuwait's Air Force's F/A-18 C/D program, which will include spare and repair parts, publications and technical documentation, U.S. Government and contractor technical support services and other related elements of logistics support. The estimated cost is $150 million.

The proposed sale will contribute to the foreign policy and national security of the United States by helping to improve the security of a friendly country which has been and continues to be an important force for political stability and economic progress in the Middle East.

The proposed sale of support services will enable the Kuwait Air Force to ensure the reliability and performance of its F/A-18 C/D aircraft.

The proposed sale of support and services will not alter the basic military balance in the region.

The principal contractors will be Kay and Associates Incorporated in Buffalo Grove, Illinois; The Boeing Company in St. Louis, Missouri; Industrial Acoustics Corporation in Winchester, England; and General Electric in Lynn, Massachusetts. There are no known offset agreements proposed in connection with this potential sale.

Implementation of this proposed sale will require 275 U.S. Government and contractor representatives to travel to Kuwait for a period of three years to provide support.

There will be no adverse impact on U.S. defense readiness as a result of this proposed sale.

[FR Doc. 2013-29790 Filed 12-13-13; 8:45 am]

BILLING CODE 5001-06-P